FEDERAL COMMUNICATIONS COMMISSION

47 CFR Part 73

[DA 02-2320; MB Docket No. 02-288, RM-10525; MB Docket No. 02-289, RM-10526; MB Docket No. 02-290, RM-10527; MB Docket No. 02-291, RM-10528; MB Docket 02-292, RM-10540; MB Docket No. 02-293; RM-10541; and Docket No. 02-294; RM-10543]

Radio Broadcasting Services; Arthur, NE; Idaho Falls, ID; Manila, UT; McLean, TX; Opal, WY; Tignall, GA; and Wheeler, TX

AGENCY: Federal Communications Commission.

ACTION: Proposed rule.

SUMMARY: This document proposes seven allotments to Arthur, NE; Idaho Falls, ID; Manila, UT; McLean, TX; Opal, WY; Tignall, GA; and Wheeler, TX. The Commission requests comments on a petition filed by proposing the allotment of Channel 244A at Tignall, Georgia, as the community's first local aural transmission service.. Channel 244A can be allotted to Tignall in compliance with the Commission's minimum distance separation requirements with a site restriction of 9.8 kilometers (6.1 miles) northwest to avoid a short-spacing to the licensed site of Station WAKB(FM), Channel 245C3, Wrens, Georgia. The coordinates for Channel 244A at Tignall are 33-55-40 North Latitude and 82-48-58 West Longitude. See Supplementary Information, infra.

DATES: Comments must be filed on or before November 18, 2002, and reply comments on or before December 3, 2002.

ADDRESSES: Federal Communications Commission, Washington, DC 20554. In addition to filing comments with the FCC, interested parties should serve the petitioner, his counsel, or consultant, as follows: Georgia-Carolina Broadcasting Co., LLC, c/o Robert Lewis Thompson, Esq., Thiemann, Aitken & Vohra, LLC, 908 King Street, Suite 300, Alexandria, Virginia 22314; Scott D. Parker, c/o Richard A. Helmick, Esq., Cohn & Marks, LLP, 1920 N Street, NW., Suite 300, Washington, DC 20036; Rural Pima Broadcasting, c/o Scott C. Cinnamon, 1090 Vermont Ave., Suite. 800, Washington, DC 20005; Arthur Radio Broadcasting, c/o John M. Pelkey, Esq., Garvey, Schubert & Barer, 1000 Potomac Street, NW., 5th Floor, Washington, DC 20007; Mr. Robert Fabian, 4 Hickory Crossing Lane, Argyle, Texas 76226; Maurice Salsa, 5615 Evergreen Valley Drive, Kingwood, Texas 77345; and Black Diamond Broadcasting, c/o Scott C. Cinnamon, 1090 Vermont Ave., Suite 800, Washington, DC 20005.

SUPPLEMENTARY INFORMATION: This is a synopsis of the Commission's Notice of Proposed Rule Making, MB Docket No. 02-288; MB Docket No. 02-289; and MB Docket No. 02-290, MB Docket No. 02-291; MM Docket No. 02-292; MB Docket No. 02-293 and MB Docket No. 02-294; adopted September 11, 2002, and released September 27, 2002. The full text of this Commission decision is available for inspection and copying during normal business hours in the FCC Reference Information Center (Room CY-A257), 445 12th Street, SW, Washington, DC. The complete text of this decision may also be purchased from the Commission's copy contractor, Qualex International, Portals II, 445 12th Street, SW., Room CY-B402, Washington, DC 20554.

The Commission requests comments on a petition filed by Scott D. Parker proposing the allotment of Channel 300C1 at Idaho Falls, Idaho, as the community's six local commercial FM transmission service. Channel 300C1 can be allotted to Idaho Falls in compliance with the Commission's minimum distance separation requirements with a site restriction of 19.6 kilometers (12.2 miles) north to avoid a short-spacing to the licensed and construction permit site for Station KUDD(FM), Channel 300C, Roy, Utah. The coordinates for Channel 330C1 at Idaho Falls are 43-39-59 North Latitude and 112-00-06 West Longitude.

The Commission requests comments on a petition filed by Rural Pima Broadcasting proposing the allotment of Channel 249A at Manila, Utah, as the community's first local aural transmission service. Channel 249A can be allotted to Manila in compliance with the Commission's minimum distance separation requirements at city reference coordinates. The coordinates for Channel 249A at Manila are 40-59-17 North Latitude and 109-43-19 West Longitude.

The Commission requests comments on a petition filed by Arthur Radio Broadcasting proposing the allotment of Channel 300C1 at Arthur, Nebraska, as the community's first local aural transmission service. Channel 300C1 at can be allotted to Arthur in compliance with the Commission's minimum distance separation requirements of with a site restriction of 8.0 kilometers (5.0 iles) northwest to avoid the vacant allotment site for Channel 297C1 at Hershey, Nebraska. The coordinates for Channel Arthur are 41-37-10 North Latitude and 101-45-57 West Longitude.

The Commission requests comments on a petition filed by Robert Fabian proposing the allotment of Channel 267C3 at McLean, Texas, as the community's first local aural transmission service. Channel 267C3 can be allotted to McLean in compliance with the Commission's minimum distance separation requirements with a site restriction of. 21.4 kilometers (13.3 miles) southwest to avoid a short-spacing to the licensed site of Station KNOX(FM), Channel 266C, Woodward, Oklahoma. The coordinates for Channel 267C3 at McLean are North Latitude and West Longitude.

The Commission requests comments on a petition filed by Maurice Salsa proposing the allotment of Channel 280C2 at Wheeler, Texas, as the community's first local aural transmission service.. Channel 280C2 can be allotted to Wheeler in compliance with the Commission's minimum distance separation requirements with a site restriction of 6.7 kilometers (4.1 miles) northeast to avoid short-spacings to the licensed site of Station KKYN-FM, Channel 280C2, Plainview, Texas, and Station KHYM(FM), Channel 280C1, Copeland, Kansas The coordinates for Channel 280C2 at Wheeler are 35-28-55 North Latitude and 100-12-56 West Longitude.

The Commission requests comments on a petition filed by Black Diamond Broadcasting proposing the allotment of Channel 263A at Opal, Wyoming, as the community's first local aural transmission service. Channel 263A can be allotted to Opal in compliance with the Commission's minimum distance separation requirements with a site restriction of. 6.3 kilometers (3.9 miles) east to avoid a short-spacing to the licensed site of Station KSFI(FM), Channel 262C, Salt Lake City, Utah. The coordinates for Channel 263A at Opal are 41-46-16 North Latitude and 110-14-50 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Georgia, is amended by adding Tignall, Channel 244A.

3. Section 73.202(b), the Table of FM Allotments under Idaho, is amended by adding Channel 300C1 at Idaho Falls.

4. Section 73.202(b), the Table of FM Allotments under Nebraska, is amended by adding Arthur, Channel 300C1.

5. Section 73.202(b), the Table of FM Allotments under Texas, is amended by adding McLean, Channel 267C3; and Wheeler, Channel 280C2.

6. Section 73.202(b), the Table of FM Allotments under Utah, is amended by adding Manila, Channel 249A.

7. Section 73.202(b), the Table of FM Allotments under Wyoming, is amended by adding Opal, Channel 263A.

Federal Communications Commission.
John A. Karousos,
Assistant Chief, Audio Divison, Media Bureau.

[FR Doc. 02-26225 Filed 10-15-02; 8:45 am]

BILLING CODE 6712-01-P